ENVIRONMENTAL PROTECTION AGENCY

[EPA-HQ-OLEM-2019-0158, FRL-9995-81-OMS]

Agency Information Collection Activities; Submission to OMB for Review and Approval; Comment Request; Renewal for EPA's WasteWise Program

AGENCY: Environmental Protection Agency (EPA).

ACTION: Notice.

SUMMARY: The Environmental Protection Agency (EPA) has submitted an information collection request (ICR), EPA's WasteWise Program (EPA ICR Number 1698.10, OMB Control Number 2050-0139) to the Office of Management and Budget (OMB) for review and approval in accordance with the Paperwork Reduction Act. This is a proposed extension of the ICR, which is currently approved through June 30, 2019. Public comments were previously requested via the Federal Register on April 3, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 29, 2019.

ADDRESSES: Submit your comments, referencing Docket ID No. EPA-HQ-OLEM-2019-0158, to (1) EPA, either online using www.regulations.gov (our preferred method), or by email to rcra-docket@epa.gov, or by mail to: RCRA Docket (2822T), U.S. Environmental Protection Agency, 1200 Pennsylvania Avenue NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Kent Foerster, Office of Resource Conservation and Recovery (mail code 5306P), Environmental Protection Agency, 1200 Pennsylvania Ave. NW, Washington, DC 20460; telephone number: 703-308-0199; fax number: 703-308-8686; email address: foerster.kent@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This is a renewal ICR for reporting and recordkeeping requirements under EPA's WasteWise program. WasteWise is a voluntary program designed to promote partnerships with organizations in order to bolster recycling and cut the volume of multiple materials (e.g., paper, aluminum cans; plastic and glass bottles; food wastes, etc.) in municipal solid waste streams. Under this program, participants agree to set waste reduction goals, develop and document specified actions to reduce waste and track their progress along the way. Under WasteWise, EPA has issued specific material or sector-based challenges. Currently these challenges focus on food recovery and electronics, as well as state related waste and material management efforts. A separate Federal Green Challenge targets the Federal sector but is not part of this ICR. Participants use a web-based online database system containing integrated platforms with automated forms to register for participation; set goals; and report their waste reduction achievements on an annual basis.

Form Numbers: None.

Respondents/affected entities: Business and other for-profit and not-for-profit organizations, as well as Federal/State/Local and Tribal governments.

Respondent's obligation to respond: Voluntary.

Estimated number of respondents: 2,224.

Frequency of response: Annual.

Total estimated burden: 155,529 hours per year.

Total estimated cost: $5,686,774 (per year), includes $164,000 annualized capital or operation & maintenance costs.

Changes in the estimates: There is an increase of 129,685 hours in the total estimated respondent burden compared with the ICR currently approved by OMB. This increase is due to increase in participation rates since the last renewal.

Courtney Kerwin,
Director, Regulatory Support Division.

[FR Doc. 2019-13786 Filed 6-27-19; 8:45 am]

BILLING CODE 6560-50-P